DEPARTMENT OF COMMERCE

Bureau of Industry and Security

[Docket No. 200514-0140]

RIN 0694-XC058

Notice of Inquiry Regarding the Exclusion Process for Section 232 Steel and Aluminum Import Tariffs and Quotas

AGENCY: Bureau of Industry and Security, Commerce.

ACTION: Notice of inquiry with request for comment.

SUMMARY: In rendering decisions on requests for exclusions from the tariffs and quotas imposed on imports of steel and aluminum articles, the Bureau of Industry and Security (BIS) is seeking public comment on the appropriateness of the information requested and considered in applying the exclusion criteria, and the efficiency and transparency of the process employed.

DATES: Comments must be received by BIS no later than July 10, 2020.

ADDRESSES: Comments on this rule may be submitted to the Federal rulemaking portal (www.regulations.gov). The regulations.gov ID for this rule is: BIS-2020-0012. Please refer to RIN 0694-XC058 in all comments and in the subject line of email comments.

Material submitted by members of the public that is properly marked business confidential information and accepted as such by the Department will be exempted from public disclosure as provided for by § 705.6 of the National Security Industrial Base Regulations (15 CFR parts 700 to 709) (“NSIBR”). Anyone submitting business confidential information should clearly identify the business confidential portion at the time of submission, file a statement justifying nondisclosure and referring to the specific legal authority claimed, and provide a non-confidential submission which can be placed in the public file on http://www.regulations.gov. Communications from agencies of the United States Government will not be made available for public inspection. For comments submitted electronically containing business confidential information, the file name of the business confidential version should begin with the characters “BC”. Any page containing business confidential information must be clearly marked “BUSINESS CONFIDENTIAL” on the top of that page. The non-confidential version must be clearly marked “PUBLIC”. The file name of the non-confidential version should begin with the character “P”. The “BC” and “P” should be followed by the name of the person or entity submitting the comments or rebuttal comments. All filers should name their files using the name of the person or entity submitting the comments. Any submissions with file names that do not begin with a “P” or “BC” will be assumed to be public and will be placed in the public file on http://www.regulations.gov.

FOR FURTHER INFORMATION CONTACT: For questions regarding this Notice of Inquiry, contact Erika Maynard at 202-482-5572 or via email Erika.Maynard@bis.doc.gov.

SUPPLEMENTARY INFORMATION: On January 11, 2018, the Secretary of Commerce (Secretary) transmitted a report to the President on his investigation into the effect of imports of steel articles on the national security of the United States. On January 19, 2018, the Secretary similarly transmitted a report to the President on his investigation into the effect of imports of aluminum articles on the national security of the United States. Both reports were issued pursuant to Section 232 of the Trade Expansion Act of 1962, as amended.

In Proclamation 9704 of March 8, 2018 (Adjusting Imports of Aluminum Into the United States), and Proclamation 9705 of March 8, 2018 (Adjusting Imports of Steel Into the United States), the President concurred in the Secretary's findings that aluminum articles and steel articles were being imported into the United States in such quantities and under such circumstances as to threaten to impair the national security of the United States. The President therefore decided to take initial action to address the threatened impairment by adjusting the imports of aluminum articles, as defined in Clause 1 of Proclamation 9704, as amended, by imposing a 10 percent ad valorem tariff on such articles imported from most countries, beginning March 23, 2018. The President similarly decided to take initial action by adjusting the imports of steel articles, as defined in Clause 1 of Proclamation 9705, as amended, by imposing a 25 percent ad valorem tariff on such articles imported from most countries, beginning March 23, 2018. In subsequent Proclamations, the President imposed quotas on imports of steel and aluminum from Argentina, and steel from Brazil and the Republic of Korea.

Exclusion Process

Proclamations 9704 and 9705 authorized the Secretary to provide relief from the additional duties imposed on steel and aluminum imports for any steel or aluminum determined not to be produced in the United States in a sufficient and reasonably available amount or of a satisfactory quality or based on specific national security considerations, after a request for relief is made by a directly affected party located in the United States.

On March 19, 2018, the Bureau of Industry and Security issued the interim final rule Requirements for Submissions Requesting Exclusions from the Remedies Instituted in Presidential Proclamations Adjusting Imports of Steel into the United States and Adjusting Imports of Aluminum into the United States; and the filing of Objections to Submitted Exclusion Requests for Steel and Aluminum (83 FR 12106) which established the exclusion request process authorized by Proclamations 9704 and 9705.

On August 29, 2018, Proclamations 9776 and 9777 authorized the Secretary to provide relief from quantitative restrictions (quotas) on steel and aluminum imports established by prior proclamations using the same criteria set forth in Proclamations 9704 and 9705 and further authorized all relief granted to be retroactive to the date the request was accepted by the Department of Commerce.

On September 11, 2018, BIS issued a second interim final rule Submission of Exclusion Requests and Objections to Submitted Requests for Steel and Aluminum (83 FR 46026), which revised the exclusion request process, including the addition of rebuttal and surrebuttal submissions.

On June 10, 2019, BIS issued a third interim final rule Implementation of New Commerce Section 232 Exclusions Portal (84 FR 26751), which transitioned the exclusion request process from the regulations.gov platform to the Section 232 Exclusions Portal.

To further inform the public on how to use the exclusion process BIS has posted website guidance, Frequently Asked Questions, and training videos.

As of March 23, 2020, BIS has received 179,128 exclusion requests, with 157,983 for steel and 21,145 for aluminum. Of those requests, 34,970 were rejected and 33,297 received objections. BIS has posted 114,009 decisions, with 78,569 exclusions being granted and 25,440 exclusion requests being denied.

BIS is seeking public comment on the appropriateness of the factors considered, and the efficiency and transparency of the process employed, in rendering decisions on requests for exclusions from the tariffs and quotas imposed on imports of steel and aluminum articles.

Specific topics for potential comments include: (1) The information sought on the exclusion request, objection, rebuttal and surrebuttal forms; (2) expanding or restricting eligibility requirements for requestors and objectors; (3) the Section 232 Exclusions Portal; (4) the requirements set forth in Federal Register Notices, 83 FR 12106, 83 FR 46026, and 84 FR 26751; (5) the factors considered in rendering decisions on exclusion requests; (6) the information published with the decisions; (7) the BIS website guidance and training videos; (8) the definition of “product” governing when separate exclusion requests must be submitted; and (9) incorporation of steel and aluminum derivative products into the product exclusion process.

Comments can also address potential revisions to the exclusion process, including, but not limited to: (1) One-year blanket approvals of exclusion requests for product types that have received no objections as of a baseline date (see Annex 1 and 2); (2) one-year blanket denials of exclusion requests for product types that have received 100 percent objection rates and never been granted as of a baseline date (see Annex 3 and 4); (3) time-limited annual or semi-annual windows during which all product-specific exclusion requests and corresponding objections may be submitted and decided; (4) issuing an interim denial memo to requesters who receive a partial approval of their exclusion request until they purchase the domestically available portion of their requested quantity; (5) requiring requestors to make a good faith showing of the need for the product in the requested quantity, as well as that the product will in fact be imported in the quality and amount, and during the time period, to which they attest in the exclusion request (e.g., a ratified contract, a statement of refusal to supply the product by a domestic producer); (6) requiring objectors to submit factual evidence that they can in fact manufacture the product in the quality and amount, and during the time period, to which they attest in the objection; (7) setting a limit on the total quantity of product that a single company could be granted an exclusion for based on an objective standard, such as a specified percentage increase over a three year average; (8) requiring that requesters citing national security reasons as a basis for an exclusion request provide specific, articulable and verifiable facts supporting such assertion (e.g., a Department of Defense contract requiring the product; a letter of concurrence from the head of a U.S. government agency or department that national security necessitates that the product be obtained in the quality, quantity and time frame requested); (9) clarifying that the domestic product is “reasonably available” if it can be manufactured and delivered in a time period that is equal to or less than that of the imported product, as provided by requestor in its exclusion request; (10) requiring that requestors, at the time of submission of their exclusion requests, demonstrate that they have tried to purchase this product domestically; (11) in the rebuttal/surrebuttal phase, requiring that both requestor and objector demonstrate in their filings that they have attempted to negotiate in good faith an agreement on the said product (i.e., producing legitimate commercial correspondence).

Any specific details about the commenters' experience with the exclusion/objection process as background to their comment to this NOI would be helpful.

Richard E. Ashooh,
Assistant Secretary for Export Administration.

Annex 1: Steel HTS Codes With 0% Objection Rates

232 Process Statistics—Objection Rate by Steel HTSUS, as of 3/23/20
HTSUS code | HTS description | Requests | Requests with objections | Objection rate (%) | Volume requested (mt) | Volume with objections (mt) | Volume objection rate (%) | Percent granted despite objection *
7208370060 | FLAT-ROLLED IRON/NA STL, WDTH >/= 600MM, HOT-RLD, NOT CLAD/PLATED/COATED, COILS, NOT PCKLD, THK 4.75-10MM, NESOI | 2 |  | 0 | 454 |  | 0 | 0
7208380015 | FLAT-ROLLED IRON/NA STL, WDTH >/= 600MM, HOT-RLD, NOT CLAD/PLATED/COATED, COILS, THK 3-4.75MM, HIGH-STRENGTH STL | 2 |  | 0 | 1,000 |  | 0 | 0
7208380030 | FLAT-ROLLED IRON/NA STL, WDTH >/= 600MM, HOT-RLD, NOT CLAD/PLATED/COATED, COILS, THK 3-4.75MM, UNTRIMMED EDGES | 4 |  | 0 | 49,000 |  | 0 | 0
7208390015 | FLAT-ROLLED IRON/NA STL, WDTH >/= 600MM, HOT-RLD, NOT CLAD/PLATED/COATED, COILS, THK < 3MM, HIGH-STRENGTH STL | 4 |  | 0 | 2,000 |  | 0 | 0
7208390090 | FLAT-ROLLED IRON/NA STL, WDTH >/= 600MM, HOT-RLD, NOT CLAD/PLATED/COATED, COILS, THK < 3MM, NESOI | 2 |  | 0 | 3,591 |  | 0 | 0
7209170030 | FLAT-RLD IRON/NA STL, WDTH >/= 600MM, COLD-RLD, NOT CLAD/PLATD/COATED, COILS, THK 0.5-1MM, HI-STRENGTH, ANNEALED | 2 |  | 0 | 2,890 |  | 0 | 0
7209270000 | FLAT-ROLLED IRON/NONALLOY STL, WDTH >/= 600MM, COLD-RLD, NOT CLAD/PLATED/COATED, NOT COILS, THK 0.5-1MM | 5 |  | 0 | 50 |  | 0 | 0
7209900000 | FLAT-ROLLED IRON/NONALLOY STL, WDTH >/= 600MM, COLD-RLD, NOT CLAD/PLATED/COATED, WHETHER OR NOT IN COILS, NESOI | 33 |  | 0 | 1,319 |  | 0 | 0
7210706030 | FLAT-ROLLED IRON/NA STL, WDTH >/= 600MM, PAINTD/VARNSHD/COATD W/PLASTICS, ELECTROLYTICALLY PLATD/COATD W/ZINC | 2 |  | 0 | 8,500 |  | 0 | 0
7211140090 | FLAT-ROLLED IRON/NONALLOY STL, WDTH < 600MM, NOT CLAD/PLATED/COATED, HOT-RLD, THK >/= 4.75MM, COILS | 2 |  | 0 | 20 |  | 0 | 0
7211234500 | FLAT-ROLLED IRON/NONALLOY STL, WDTH < 300MM, NOT CLAD/PLATED/COATED, COLD-RLD, <0.25% CRBN, THK </= 0.25MM | 1 |  | 0 | 273 |  | 0 | 0
7211296080 | FLAT-ROLLED IRON/NONALLOY STL, WDTH 300-600MM, NOT CLAD/PLATED/COATED, COLD-RLD, >/= 0.25% CRBN, THK </= 1.25MM | 70 |  | 0 | 29,953 |  | 0 | 0
7212200000 | FLAT-ROLLED IRON/NONALLOY STL, WDTH < 600MM, ELECTROLYTICALLY PLATED/COATED WITH ZINC | 36 |  | 0 | 26,869 |  | 0 | 0
7212600000 | FLAT-ROLLED IRON/NONALLOY STL, WDTH < 600MM, CLAD, NESOI | 232 |  | 0 | 11,031 |  | 0 | 0
7213200080 | BARS/RODS IRON/NONALLOY STL, HOT-RLD, IRR COILS, FREE-CUTTING STL, NESOI | 4 |  | 0 | 365 |  | 0 | 0
7213913020 | BARS/RODS IRON/NA STL, IRR COILS, HOT-RLD, CIRC CS <14MM DIAM, NOT TEMPRD/TREATD/PARTLY MFTD, WELDING QUALITY WIRE ROD | 29 |  | 0 | 149,700 |  | 0 | 0
7215500018 | OTHER BARS/RODS IRON/NONALLOY STL, COLD-FORMED/FINISHED, NOT COILS, < 0.25% CARBON, DIAM 76-228MM | 74 |  | 0 | 300 |  | 0 | 0
7215500090 | OTHER BARS/RODS IRON/NONALLOY STL, COLD-FORMED/FINISHED, NOT COILS, >/= 0.6% CARBON | 9 |  | 0 | 720 |  | 0 | 0
7216100010 | U SECTIONS IRON/NONALLOY STL, HOT-ROLLED/DRAWN/EXTRUDED, HEIGHT < 80MM | 4 |  | 0 | 4 |  | 0 | 0
7216330090 | H SECTIONS IRON/NONALLOY STL, HOT-RLD/DRWN/EXTRD, HEIGHT >/= 80MM, NESOI | 26 |  | 0 | 491 |  | 0 | 0
7216400010 | L SECTIONS IRON/NONALLOY STL, HOT-ROLLED/DRAWN/EXTRUDED, HEIGHT >/= 80MM | 5 |  | 0 | 5 |  | 0 | 0
7217104045 | ROUND WIRE IRON/NONALLOY STL, NOT PLATED/COATED, < 0.25% CARBON, DIAM < 1.5MM, HEAT-TREATED, NESOI | 6 |  | 0 | 93 |  | 0 | 0
7217104090 | ROUND WIRE IRON/NONALLOY STL, NOT PLATED/COATED, < 0.25% CARBON, DIAM < 1.5MM, NOT HEAT-TREATED | 3 |  | 0 | 1,200 |  | 0 | 0
7217106000 | OTHER WIRE IRON/NONALLOY STL, NOT PLATED/COATED, < 0.25% CARBON | 11 |  | 0 | 36,420 |  | 0 | 0
7217107000 | FLAT WIRE IRON/NONALLOY STL, NOT PLATED/COATED, >/= 0.25% CARBON | 500 |  | 0 | 18,359 |  | 0 | 0
7217108025 | ROUND WIRE IRON/NONALLOY STL, NOT PLATED/COATED, > 0.6% CARBON, HEAT-TREATED, DIAM < 1.0MM | 6 |  | 0 | 2,344 |  | 0 | 0
7217108030 | ROUND WIRE IRON/NONALLOY STL, NOT PLATED/COATED, > 0.6% CARBON, HEAT-TREATED, DIAM 1.0-1.5MM | 42 |  | 0 | 2,669 |  | 0 | 0
7217108060 | ROUND WIRE IRON/NONALLOY STL, NOT PLATED/COATED, > 0.6% CARBON, NOT HEAT-TREATED, DIAM < 1.0MM | 198 |  | 0 | 12,092 |  | 0 | 0
7217108075 | ROUND WIRE IRON/NONALLOY STL, NOT PLATED/COATED, > 0.6% CARBON, NOT HEAT-TREATED, DIAM 1.0-1.5MM | 82 |  | 0 | 11,173 |  | 0 | 0
7217108090 | ROUND WIRE IRON/NONALLOY STL, NOT PLATED/COATED, > 0.6% CARBON, NOT HEAT-TREATED, DIAM >/= 1.5MM | 116 |  | 0 | 9,598 |  | 0 | 0
7217109000 | OTHER WIRE IRON/NONALLOY STL, NOT PLATED/COATED, >/= 0.25% CARBON, NESOI | 99 |  | 0 | 5,768 |  | 0 | 0
7217201500 | FLAT WIRE IRON/NONALLOY STL, PLATED/COATED WITH ZINC | 61 |  | 0 | 22,661 |  | 0 | 0
7217204550 | ROUND WIRE IRON/NONALLOY STL, PLATED/COATED WITH ZINC, DIAM 1.0-1.5MM, 0.25-0.6% CARBON | 1 |  | 0 | 2 |  | 0 | 0
7217204560 | ROUND WIRE IRON/NONALLOY STL, PLATED/COATED WITH ZINC, DIAM 1.0-1.5MM, >/= 0.6% CARBON | 38 |  | 0 | 3,678 |  | 0 | 0
7217304541 | ROUND WIRE IRON/NONALLOY STL, PLATED/COATED W/OTH BASE METALS, DIAM 1.0-1.5MM, < 0.25% CARBON | 9 |  | 0 | 463 |  | 0 | 0
7217901000 | Wire, Iron Or Nonalloy Steel, Coated With Plastics | 44 |  | 0 | 9,544 |  | 0 | 0
7217905030 | WIRE IRON/NONALLOY STL, PLATED/COATED, < 0.25% CARBON, NESOI | 26 |  | 0 | 2,304 |  | 0 | 0
7217905060 | WIRE IRON/NONALLOY STL, PLATED/COATED, 0.25-0.6% CARBON, NESOI | 15 |  | 0 | 4,999 |  | 0 | 0
7217905090 | WIRE IRON/NONALLOY STL, PLATED/COATED, >/= 0.6% CARBON, NESOI | 21 |  | 0 | 2,355 |  | 0 | 0
7218910030 | SEMIFINISHED STAINLESS STL, RECTANGULAR CROSS SECTION, WDTH < 4X THK, CS AREA >/= 232 CM2 | 1 |  | 0 | 3,622 |  | 0 | 0
7219110030 | FLAT-ROLLED STAINLESS STL, WDTH 600-1575MM, HOT-RLD, COILS, THK > 10MM | 34 |  | 0 | 3,241 |  | 0 | 0
7219110060 | FLAT-ROLLED STAINLESS STL, WDTH > 1575MM, HOT-RLD, COILS, THK > 10MM | 39 |  | 0 | 4,107 |  | 0 | 0
7219120021 | FLAT-ROLLED STAINLESS STL, WDTH 1370-1575MM, HOT-RLD, COILS, THK 6.8-10MM | 10 |  | 0 | 1,185 |  | 0 | 0
7219120026 | FLAT-ROLLED STAINLESS STL, WDTH > 1575MM, HOT-RLD, COILS, THK 6.8-10MM | 50 |  | 0 | 10,630 |  | 0 | 0
7219120051 | FLAT-ROLLED STAINLESS STL, WDTH 1370-1575MM, HOT-RLD, COILS, THK 4.75-6.8MM | 16 |  | 0 | 2,136 |  | 0 | 0
7219120071 | FLAT-ROLLED STAINLESS STL, WDTH 600-1370MM, HOT-RLD, COILS, THK 4.75-10MM, > 0.5% NICKEL, NESOI | 13 |  | 0 | 1,341 |  | 0 | 0
7219120081 | FLAT-ROLLED STAINLESS STL, WDTH 600-1370MM, HOT-RLD, COILS, THK 4.75-10MM, NESOI | 3 |  | 0 | 8,620 |  | 0 | 0
7219130081 | FLAT-ROLLED STAINLESS STL, WDTH 600-1370MM, HOT-RLD, COILS, THK 3-4.75MM, NESOI | 2 |  | 0 | 54 |  | 0 | 0
7219210005 | FLAT-ROLLED STAINLESS STL, WDTH >/= 600MM, HOT-RLD, NOT COILS, THK > 10MM, HIGH-NICKEL ALLOY STL | 2 |  | 0 | 38 |  | 0 | 0
7219220005 | FLAT-ROLLED STAINLESS STL, WDTH >/= 600MM, HOT-RLD, NOT COILS, THK 4.75-10MM, HIGH-NICKEL ALLOY STL | 6 |  | 0 | 111 |  | 0 | 0
7219220015 | FLAT-ROLLED STAINLESS STL, WDTH 600-1575MM, HOT-RLD, NOT COILS, THK 4.75-10MM, > 0.5% NICKEL, 1.5-5% MOLYBDENUM | 10 |  | 0 | 541 |  | 0 | 0
7219220035 | FLAT-ROLLED STAINLESS STL, WDTH 600-1575MM, HOT-RLD, NOT COILS, THK 4.75-10MM, > 0.5% NICKEL, NESOI | 29 |  | 0 | 1,482 |  | 0 | 0
7219220040 | FLAT-ROLLED STAINLESS STL, WDTH 1575-1880MM, HOT-RLD, NOT COILS, THK 4.75-10MM, > 0.5% NICKEL, NESOI | 15 |  | 0 | 1,364 |  | 0 | 0
7219240060 | FLAT-ROLLED STAINLESS STL, WDTH 600-1370MM, HOT-RLD, NOT COILS, THK < 3MM | 22 |  | 0 | 543 |  | 0 | 0
7219310010 | FLAT-ROLLED STAINLESS STL, WDTH >/= 600MM, COLD-RLD, THK >/= 4.75MM, COILS | 54 |  | 0 | 11,621 |  | 0 | 0
7219320020 | FLAT-ROLLED STAINLESS STL, WDTH >/= 1370MM, COLD-RLD, THK 3-4.75MM, COILS, > 0.5% NICKEL | 54 |  | 0 | 6,431 |  | 0 | 0
7219320036 | FLAT-ROLLED STAINLESS STL, WDTH 600-1370MM, COLD-RLD, THK 3-4.75MM, COILS, > 0.5% NICKEL, 1.5-5% MOLYBDENUM | 14 |  | 0 | 4,346 |  | 0 | 0
7219320038 | FLAT-ROLLED STAINLESS STL, WDTH 600-1370MM, COLD-RLD, THK 3-4.75MM, COILS, > 0.5% NICKEL, NESOI | 20 |  | 0 | 1,798 |  | 0 | 0
7219320045 | FLAT-ROLLED STAINLESS STL, WDTH >/= 1370MM, COLD-RLD, THK 3-4.75MM, NOT COILS | 15 |  | 0 | 332 |  | 0 | 0
7219330025 | FLAT-ROLLED STAINLESS STL, WDTH >/= 1370MM, COLD-RLD, THK 1-3MM, COILS, </= 0.5% NICKEL | 21 |  | 0 | 3,970 |  | 0 | 0
7219330042 | FLAT-ROLLED STAINLESS STL, WDTH 600-1370MM, COLD-RLD, THK 1-3MM, COILS, </= 0.5% NICKEL; > 15% CHROMIUM | 15 |  | 0 | 2,236 |  | 0 | 0
7219340020 | FLAT-ROLLED STAINLESS STL, WDTH >/= 600MM, COLD-RLD, THK 0.5-1MM, COILS, > 0.5% NICKEL, 1.5-5% MOLYBDENUM | 9 |  | 0 | 1,140 |  | 0 | 0
7219350005 | FLAT-ROLLED STAINLESS STL, WDTH >/= 600MM, COLD-RLD, THK < 0.5MM, COILS, 0.5-24% NICKEL, 1.5-5% MOLYBDENUM | 13 |  | 0 | 8,110 |  | 0 | 0
7219900060 | OTHER FLAT-ROLLED STAINLESS STL, WDTH >/= 600MM, FURTHER WORKED THAN COLD-RLD, </= 0.5% NICKEL; > 15% CHROMIUM | 5 |  | 0 | 38 |  | 0 | 0
7220121000 | FLAT-ROLLED STAINLESS STL, WDTH 300-600MM, HOT-RLD, THK < 4.75MM | 32 |  | 0 | 6,916 |  | 0 | 0
7220125000 | FLAT-ROLLED STAINLESS STL, WDTH < 300MM, HOT-RLD, THK < 4.75MM | 14 |  | 0 | 852 |  | 0 | 0
7220206010 | FLAT-ROLLED STAINLESS STL, WDTH < 300MM, COLD-RLD, THK > 1.25MM, > 0.5% NICKEL, 1.5-5% MOLYBDENUM | 52 |  | 0 | 18,005 |  | 0 | 0
7220206060 | FLAT-ROLLED STAINLESS STL, WDTH < 300MM, COLD-RLD, THK > 1.25MM, </= 0.5% NICKEL; > 15% CHROMIUM | 23 |  | 0 | 1,058 |  | 0 | 0
7220206080 | FLAT-ROLLED STAINLESS STL, WDTH < 300MM, COLD-RLD, THK > 1.25MM, </= 0.5% NICKEL, NESOI | 1 |  | 0 | 12 |  | 0 | 0
7220207060 | FLAT-ROLLED STAINLESS STL, WDTH < 300MM, COLD-RLD, THK 0.25-1.25MM, </= 0.5% NICKEL, < 15% CHROMIUM | 172 |  | 0 | 11,768 |  | 0 | 0
7220208000 | FLAT-ROLLED STAINLESS STL, WDTH < 300MM, COLD-RLD, THK </= 0.25MM, RAZOR BLADE STL | 170 |  | 0 | 63,021 |  | 0 | 0
7220900060 | OTHER FLAT-ROLLED STAINLESS STL, WDTH < 600MM, FURTH WRKD THAN COLD-RLD, NICKEL CONTENT NESOI, < 15% CHROMIUM | 561 |  | 0 | 7,212 |  | 0 | 0
7221000045 | BARS/RODS STAINLESS STL, HOT-RLD, IRR COILS, NOT HIGH-NICKEL ALLOY, CIRC CS >/= 19MM DIAM | 114 |  | 0 | 19,047 |  | 0 | 0
7222300001 | OTHER BARS/RODS STAINLESS STL, FURTH WRKD THAN COLD-FRMD/FNSHD, ELECTROSLAG/VACUUM ARC REMELTED, NESOI | 39 |  | 0 | 101 |  | 0 | 0
7222403045 | SHAPES/SECTIONS STAINLESS STL, HOT-RLD, NOT DRILLED/PUNCHED/ADVANCED, MAX CS >/= 80MM | 48 |  | 0 | 4,387 |  | 0 | 0
7222403085 | SHAPES/SECTIONS STAINLESS STL, HOT-RLD, NOT DRILLED/PUNCHED/ADVANCED, MAX CROSS SECTION < 80MM | 44 |  | 0 | 2,205 |  | 0 | 0
7222406000 | Angles Shapes And Sections Stainless Steel Nesoi | 625 |  | 0 | 2,948 |  | 0 | 0
7223005000 | FLAT WIRE OF STAINLESS STEEL | 170 |  | 0 | 9,894 |  | 0 | 0
7224100005 | INGOTS AND OTHER PRIMARY FORMS OF HIGH-NICKEL ALLOY STEEL | 3 |  | 0 | 743 |  | 0 | 0
7225403005 | FLAT-ROLLED OTH ALLOY STL, WDTH >/= 600MM, HOT-RLD, NOT COILS, THK >/= 4.75MM, HIGH-NICKEL ALLOY STL | 1 |  | 0 |  |  | 0 | 0
7225501110 | FLAT-ROLLED OTH ALLOY STL, WDTH >/= 600MM, COLD-RLD, TOOL STEEL, HIGH-SPEED STL | 15 |  | 0 | 103 |  | 0 | 0
7225506000 | FLAT-ROLLED OTH ALLOY STL, WDTH >/= 600MM, COLD-RLD, THK >/= 4.75MM, NESOI | 6 |  | 0 | 286 |  | 0 | 0
7226918000 | FLAT-ROLLED OTH ALLOY STL, WDTH < 300MM, HOT-RLD, NOT TOOL STL, THK < 4.75MM | 14 |  | 0 | 625 |  | 0 | 0
7226923030 | FLAT-ROLLED OTH ALLOY STL, WDTH < 300MM, COLD-RLD, TOOL STEEL OTH THAN HIGH-SPEED, BALL-BEARING STL | 26 |  | 0 | 1,606 |  | 0 | 0
7226923060 | FLAT-ROLLED OTH ALLOY STL, WDTH < 300MM, COLD-RLD, TOOL STEEL OTH THAN HIGH-SPEED, NESOI | 168 |  | 0 | 19,874 |  | 0 | 0
7226928005 | FLAT-ROLLED OTH ALLOY STL, WDTH < 300MM, COLD-RLD, NOT TOOL STL, THK > 0.25MM, HIGH-NICKEL ALLOY STL | 10 |  | 0 | 199 |  | 0 | 0
7226990110 | FLAT-ROLLED OTH ALLOY STL, WDTH < 600MM, FURTH WRKD THAN COLD-RLD, ELECTROLYTICALLY PLATD/COATD W/ZINC, NESOI | 6 |  | 0 | 6,461 |  | 0 | 0
7227100000 | BARS/RODS OTH ALLOY STL, HOT-RLD, IRR COILS, HIGH-SPEED STL | 693 |  | 0 | 5,976 |  | 0 | 0
7227200030 | BARS/RODS SILICO-MANGANESE STL, IRR COILS, HOT-RLD, WELDING QUALITY WIRE RODS, STAT NOTE 6 | 8 |  | 0 | 161,800 |  | 0 | 0
7227901060 | BARS/RODS TOOL STL (NOT HIGH-SPEED), HOT-RLD, IRR COILS, NOT TEMPRD/TREATD/PARTLY MFTD, NESOI | 178 |  | 0 | 19,659 |  | 0 | 0
7227906020 | BARS/RODS OTHER ALLOY STL, IRR COILS, HOT-RLD, NOT TOOL STL, WELDING QUALITY WIRE RODS | 17 |  | 0 | 17,646 |  | 0 | 0
7228308005 | OTHER BARS/RODS OTHER ALLOY STL, HOT-ROLLED/DRAWN/EXTRUDED, HIGH-NICKEL ALLOY STL | 3 |  | 0 | 15 |  | 0 | 0
7228501040 | OTHER BARS/RODS TOOL STL (NOT HIGH-SPEED), COLD-FRMD/FNSHD, MAX CS < 18MM, NESOI | 35 |  | 0 | 10,133 |  | 0 | 0
7229200015 | ROUND WIRE SI-MN STL, DIAM </= 1.6MM, < 020% C, > 0.9% MN, > 0.6% SI, FOR ELEC ARC WELDING, NOT PLATD/COATED W/ COPPER | 1 |  | 0 | 1,500 |  | 0 | 0
7229901000 | FLAT WIRE OF OTHER ALLOY STEEL | 30 |  | 0 | 1,045 |  | 0 | 0
7229905016 | ROUND WIRE OTHER ALLOY STL, DIAM < 1.0MM | 80 |  | 0 | 421 |  | 0 | 0
7229905031 | ROUND WIRE OTHER ALLOY STL, DIAM 1.0-1.5MM | 78 |  | 0 | 622 |  | 0 | 0
7302101015 | OTHER RAILS IRON/NONALLOY STL, NEW, NOT HEAT TREATED, > 30KG/M | 3 |  | 0 | 480 |  | 0 | 0
7302101045 | OTHER RAILS IRON/NONALLOY STL, NEW, HEAT TREATED, > 30KG/M | 8 |  | 0 | 465 |  | 0 | 0
7302105020 | RAILS OF ALLOY STEEL, NEW | 2 |  | 0 | 796 |  | 0 | 0
7302901000 | SLEEPERS (CROSS-TIES) OF IRON OR STEEL | 3 |  | 0 | 21,498 |  | 0 | 0
7304243010 | CASING (OIL/GAS DRILLING) STAINLESS STL, SEAMLESS, THREADED/COUPLED, OUTSIDE DIAM < 215.9MM, WALL THK < 12.7MM | 34 |  | 0 | 20,849 |  | 0 | 0
7304243020 | CASING (OIL/GAS DRILLING) STAINLESS STL, SEAMLESS, THREADED/COUPLED, OUTSIDE DIAM < 215.9MM, WALL THK >/= 12.7MM | 2 |  | 0 | 160 |  | 0 | 0
7304243040 | CASING (OIL/GAS DRILLING) STAINLESS STL, SEAMLESS, THREADED/COUPLED, OUTSIDE DIAM 215.9-285.8MM, WALL THK >/= 12.7MM | 2 |  | 0 | 860 |  | 0 | 0
7304244040 | CASING (OIL/GAS DRILLING) STAINLESS STL, SEAMLESS, NOT THREADED/COUPLED, OS DIAM 215.9-285.8MM, WALL THK >/= 12.7MM | 8 |  | 0 | 7,855 |  | 0 | 0
7304244060 | CASING (OIL/GAS DRILLING) STAINLESS STL, SEAMLESS, NOT THREADED/COUPLED, OS DIAM 285.8-406.4MM, WALL THK >/= 12.7MM | 2 |  | 0 | 5,000 |  | 0 | 0
7304246030 | TUBING (OIL/GAS DRILLING) STAINLESS STL, SEAMLESS, OUTSIDE DIAM <≠= 114.3MM, WALL THK > 9.5 MM | 74 |  | 0 | 71,809 |  | 0 | 0
7304293120 | CASING (OIL/GAS DRILLING) OTH ALLOY STL, SEAMLESS, THREADED/COUPLED, OS DIAM < 215.9MM, WALL THK >/= 12.7MM | 4 |  | 0 | 1,028 |  | 0 | 0
7304293160 | CASING (OIL/GAS DRILLING) OTH ALLOY STL, SEAMLESS, THREADED/COUPLED, OS DIAM 285.8-406.4MM, WALL THK >/= 12.7MM | 7 |  | 0 | 2,625 |  | 0 | 0
7304293180 | CASING (OIL/GAS DRILLING) OTH ALLOY STL, SEAMLESS, THREADED/COUPLED, OUTSIDE DIAM > 406.4MM | 4 |  | 0 | 4,500 |  | 0 | 0
7304390002 | TUBES/PIPES/HLLW PRFLS IRON/NA STL, SMLESS, CIRC CS, NOT COLD-TRTD, SUITABLE FOR BOILERS ETC, OS DIAM < 38.1MM | 15 |  | 0 | 3,417 |  | 0 | 0
7304390016 | TUBES/PIPES/HOLLOW PROFILES IRON/NA STL, SEAMLESS, CIRC CS, NOT COLD-TRTD, GALVANIZED, OS DIAM </= 114.3MM. | 8 |  | 0 | 211 |  | 0 | 0
7304413005 | TUBES/PIPES/HOLLOW PRFLS STAINLESS STL, SEAMLESS, CIRC CS, COLD-DRWN/RLD, EXT DIAM < 19MM, HIGH-NICKEL ALLOY STL | 5 |  | 0 | 237 |  | 0 | 0
7304515005 | TUBES/PIPES/HOLLOW PROFILES OTH ALLOY STL, SEAMLESS, CIRC CS, COLD-DRWN/RLD, HIGH-NICKEL ALLOY STL | 44 |  | 0 | 4,965 |  | 0 | 0
7304592030 | TUBES/PIPES/HLLW PRFLS OTH ALLOY STL, SMLESS, CIRC CS, NOT COLD-TRTD, SUITABLE FOR BOILERS ETC, HEAT-RESISTING STL | 1,071 |  | 0 | 169,986 |  | 0 | 0
7304592080 | TUBES/PIPES/H PRFLS ALLOY STL, SMLSS, CIRC CS, NOT COLD-TRTD, SUIT FOR BOILERS ETC, NOT HT-RSST STL, OS DIAM > 406.4MM | 1,082 |  | 0 | 89,791 |  | 0 | 0
7304598010 | TUBES/PIPES/HOLLOW PROFILES OTH ALLOY STL, SEAMLESS, CIRC CS, NOT COLD-TREATED, OUTSIDE DIAM < 38.1MM, NESOI | 83 |  | 0 | 19,487 |  | 0 | 0
7304598045 | TUBES/PIPES/HLLW PRFLS OTH ALLOY STL, SMLESS, CIRC CS, NOT CLD-TRTD, OS DIAM 190.5-285.8MM, WALL THK < 12.7MM, NESOI | 65 |  | 0 | 84,783 |  | 0 | 0
7304598060 | TUBES/PIPES/HLLW PRFLS OTH ALLOY STL, SMLESS, CIRC CS, NOT CLD-TRTD, OS DIAM 285.8-406.4MM, WALL THK < 12.7MM, NESOI | 96 |  | 0 | 119,499 |  | 0 | 0
7304901000 | TUBES/PIPES/HOLLOW PROFILES IRON/NONALLOY STL, SEAMLESS, NONCIRCULAR CROSS SECTION, WALL THK >/= 4MM | 15 |  | 0 | 4,440 |  | 0 | 0
7304905000 | TUBES/PIPES/HOLLOW PROFILES IRON/NONALLOY STL, SEAMLESS, NOT CIRCULAR CS, WALL THK < 4MM, NESOI | 6 |  | 0 | 223 |  | 0 | 0
7305316090 | OTHER TUBES/PIPES ALLOY STL (NOT STAINLESS), CIRC CS, EXT DIAM > 406.4MM, LONGITUDINALLY WELDED, NESOI | 7 |  | 0 | 1,421 |  | 0 | 0
7305391000 | OTHER TUBES/PIPES IRON/NONALLOY STL, CIRC CS, EXT DIAM > 406.4MM, WELDED OTH THAN LONGITUDINALLY, NESOI | 1 |  | 0 | 8 |  | 0 | 0
7306191010 | LINE PIPE (OIL/GAS PIPELINES) IRON/NONALLOY STL, WELDED/RIVETED/SIM CLOSED, OUTSIDE DIAM </= 114.3MM | 1 |  | 0 | 8 |  | 0 | 0
7306213000 | CASING (OIL/GAS DRILLING) STAINLESS STL, WELDED, THREADED/COUPLED | 1 |  | 0 | 400 |  | 0 | 0
7306401010 | OTH TUBES/PIPES/HOLLOW PRFLS STAINLESS STL, WELDED, CIRC CS, WALL THK < 1.65MM, < 0.5% NICKEL, 1.5-5% MOLYBDENUM | 15 |  | 0 | 358 |  | 0 | 0
7306401090 | OTH TUBES/PIPES/HOLLOW PRFLS STAINLESS STL, WELDED, CIRC CS, WALL THK < 1.65MM, </= 0.5% NICKEL | 76 |  | 0 | 5,117 |  | 0 | 0
7306617060 | OTH TUBES/PIPES/HOLLOW PROFILES OTH ALLOY STL (NOT STAINLESS), WELDED, SQ/RECT CS, WALL THK < 4MM | 28 |  | 0 | 500 |  | 0 | 0
7306695000 | OTH TUBES/PIPES/HOLLOW PROFILES IRON/NONALLOY STL, WELDED, OTH NONCIRCULAR CS, WALL THK < 4MM | 4 |  | 0 | 31,500 |  | 0 | 0
7306697060 | OTH TUBES/PIPES/HOLLOW PROFILES OTH ALLOY STL (NOT STAINLESS), WELDED, OTH NONCIRCULAR CS, WALL THK < 4MM | 8 |  | 0 | 32,594 |  | 0 | 0
7306901000 | OTH TUBES/PIPES/HOLLOW PROFILES IRON/NONALLOY STL, RIVETED/SIMILARLY CLOSED (NOT WELDED), NESOI | 585 |  | 0 | 23,065 |  | 0 | 0
* Percent of requests granted despite receiving one or more objections, out of the total number of requests with objections and rendered decisions.

Annex 2: Aluminum HTS Codes With 0% Objection Rates

232 Process Statistics—Objection Rate by Aluminum HTSUS, as of 3/23/20
HTSUS code | HTS description | Requests | Requests with objections | Objection rate (%) | Volume requested (mt) | Volume with objections (mt) | Volume objection rate (%) | Percent granted despite objection *
7601106030 | ALUMINUM ALLOY OF GREATER THAN 99.8 PERCENT ALUMINUM | 3 |  | 0 | 349 |  | 0 | 0
7601209080 | ALUMINUM ALLOY, SHEET INGOT (SLAB) OF A KIND DESCRIBED IN STATISTICAL NOTE 3 TO THIS CHAPTER | 7 |  | 0 | 6,880 |  | 0 | 0
7601209095 | ALUMINUM ALLOY, UNWROUGHT, NESOI | 1 |  | 0 | 5 |  | 0 | 0
7604210000 | ALUMINUM ALLOY HOLLOW PROFILES | 76 |  | 0 | 38,723 |  | 0 | 0
7604293090 | ALUMINUM ALLOY BARS AND RODS HAVING A ROUND CROSS SECTION, NESOI | 27 |  | 0 | 1,043 |  | 0 | 0
7604295050 | ALUMINUM ALLOY BARS/RODS HAVING OTHER THAN ROUND CROSS SECTION, HEAT-TREATABLE INDUSTRIAL ALLOYS | 4 |  | 0 | 5 |  | 0 | 0
7604295060 | ALUMINUM ALLOY BARS A RODS HAVING OTHR THAN ROUND CROSS SCTN W A MAX CROSS-SECTIONAL DIMENSION OF 10MM OR MORE | 17 |  | 0 | 85 |  | 0 | 0
7604295090 | ALUMINUM ALLOY BARS AND RODS HAVING OTHER THAN ROUND CROSS SECTION, NESOI | 2 |  | 0 | 741 |  | 0 | 0
7605290000 | ALUMINUM WIRE ALLOY OF WHICH THE MAXIMUM CROSS-SECTIONAL DIMENSION IS 7MM OR LESS | 15 |  | 0 | 202 |  | 0 | 0
7606116000 | ALUMINUM PLATES SHEETS AND STRIP RECTANGULAR (INCLUDING SQUARE) NOT ALLOYED CLAD, WTH A THICKNESS OVER 0.2MM | 18 |  | 0 | 2,390 |  | 0 | 0
7606123015 | ALUMINUM PLATES SHEETS & STRIP RECTANGULAR (INC SQUARE) NOT CLAD,THICKNESS MORE THAN 6.3MM, HIGH-STRENGTH HEAT-TREATABLE ALLOY, STAT NOTE 5, CH 76 | 8 |  | 0 | 44 |  | 0 | 0
7607116010 | ALUMINUM FOIL, BOXED, WEIGHING LT = 11.3 KG, OF A THICKNESS GT 0.01 MM AND LT = 0.15 MM, ROLLED, NOT BACKED | 8 |  | 0 | 1,015 |  | 0 | 0
7607191000 | ALUMINUM FOIL OF A THICKNESS NOT EXCEEDING 0.2MM NOT BACKED, ETCHED CAPACITOR FOIL | 22 |  | 0 | 11,350 |  | 0 | 0
7607196000 | ALUMINUM FOIL NESOI NOT BACKED | 71 |  | 0 | 23,244 |  | 0 | 0
7607201000 | ALUMINUM FOIL OF A THICKNESS NOT EXCEEDING 0.2MM BACKED, COVERED OR DECORATED WITH A CHARACTER, DESIGN, FANCY EFFECT OR PATTERN | 3 |  | 0 | 389 |  | 0 | 0
7607205000 | ALUMINUM FOIL OF A THICKNESS NOT EXCEEDING 0.2MM BACKED, OTHER THAN COVERED OR DECORATED WITH A CHARACTER, DESIGN, FANCY EFFECT OR PATTERN | 84 |  | 0 | 41,696 |  | 0 | 0
7608200090 | TUBES AND PIPES ALUM AL EXCPT SEAMLESS | 45 |  | 0 | 5,621 |  | 0 | 0
7609000000 | ALUMINUM TUBE OR PIPE FITTINGS (COUPLINGS, ELBOWS SLEEVES) | 1,469 |  | 0 | 188,157 |  | 0 | 0
7616995160 | ALUMINUM CASTINGS | 2 |  | 0 | 242 |  | 0 | 0
7616995170 | ALUMINUM FORGINGS | 8 |  | 0 | 12,597 |  | 0 | 0
* Percent of requests granted despite receiving one or more objections, out of the total number of requests with objections and rendered decisions.

Annex 3: Steel HTS Codes With 100% Objection Rates

232 Process Statistics—Objection Rate by Steel HTSUS, as of 3/23/20
HTSUS code | HTS description | Requests | Requests with objections | Objection Rate (%) | Volume requested (mt) | Volume with objections (mt) | Volume objection rate (%) | Percent granted despite objection *
7207120010 | SEMIFINISHED IRON/NONALLOY STL, <0.25% CARBON, RECTANGULAR CROSS SECTION, WDTH <4X THK | 20 | 20 | 100 | 1,128,815 | 1,128,815 | 100 | 0
7208106000 | FLAT-ROLLED IRON/NA STL, WDTH >/= 600MM, HOT-RLD, NOT CLAD/PLATD/COATD, COILS, PATTERNS IN RELIEF, THK <4.75MM | 3 | 3 | 100 | 499 | 499 | 100 | 0
7209160091 | FLAT-RLD IRON/NA STL, WDTH >/= 600MM, COLD-RLD, NOT CLAD/PLATD/COATED, COILS, THK 1-3MM, NOT HI-STRENGTH, NOT ANNEALED | 4 | 4 | 100 | 4,246 | 4,246 | 100 | 0
7209182585 | FLAT-ROLLD IRON OR NONALLOY STEEL COILS 600MM OR MORE WIDE COLD-RLLD NOT CLAD, PLATED OR COATED, LESS THAN 0.361MM THICK(BLACKPLATE), NESOI | 2 | 2 | 100 | 2,782 | 2,782 | 100 | 0
7209186090 | FLAT-RLD IRON/NA STL, WDTH >/= 600MM, COLD-RLD, NOT CLAD/PLATED/COATED, COILS, THK 0.361-0.5MM, NOT ANNEALED, NESOI | 20 | 20 | 100 | 666,193 | 666,193 | 100 | 0
7210110000 | FLAT-ROLLED IRON/NONALLOY STL, WDTH >/= 600MM, PLATED/COATED WITH TIN, THK >/0.5MM | 9 | 9 | 100 | 22,100 | 22,100 | 100 | 11
7210610000 | FLAT-ROLLED IRON/NONALLOY STL, WDTH >/= 600MM, PLATED/COATED WITH ALUMINUM-ZINC ALLOYS | 11 | 11 | 100 | 124,100 | 124,100 | 100 | 40
7212303000 | FLAT-ROLLED IRON/NONALLOY STL, WDTH <300MM, PLATED/COATED WITH ZINC (NOT ELECTROLYTICALLY), THK <25MM | 1 | 1 | 100 | 1,800 | 1,800 | 100 | 0
7217104040 | ROUND WIRE IRON/NONALLOY STL, NOT PLATED/COATED, <0.25% CARBON, DIAM <1.5MM, HEAT-TREATED, COILS WGHT </= 2KG | 3 | 3 | 100 | 2,080 | 2,080 | 100 | 0
7218990090 | SEMIFINISHED STAINLESS STL, CROSS SECTION OTHER THAN RECT/SQ/CIRC, NESOI | 1 | 1 | 100 | 1,814 | 1,814 | 100 | 0
7226119060 | FLAT-ROLLED OTH ALLOY STL, WDTH <300MM, SILICON ELECTRICAL STL, GRAIN-ORIENTED, THK >0.25MM | 1 | 1 | 100 | 130 | 130 | 100 | 0
7226191000 | FLAT-ROLLED OTH ALLOY STL, WDTH 300-600MM, SILICON ELECTRICAL STL, NOT GRAIN-ORIENTED | 3 | 3 | 100 | 6,852 | 6,852 | 100 | 0
7304292020 | CASING (OIL/GAS DRILLING) IRON/NA STL, SEAMLESS, NOT THREADED/COUPLED, OS DIAM <215.9MM, WALL THK >/= 12.7MM | 3 | 3 | 100 | 18,000 | 18,000 | 100 | 0
7304292030 | CASING (OIL/GAS DRILLING) IRON/NA STL, SEAMLESS, NOT THREADED/COUPLED, OS DIAM 215.9-285.8MM, WALL THK <12.7MM | 12 | 12 | 100 | 200,153 | 200,153 | 100 | 0
7304292050 | CASING (OIL/GAS DRILLING) IRON/NA STL, SEAMLESS, NOT THREADED/COUPLED, OS DIAM 285.8-406.4MM, WALL THK <12.7MM | 4 | 4 | 100 | 35,000 | 35,000 | 100 | 0
7304295045 | TUBING (OIL/GAS DRILLING) IRON/NONALLOY STL, SEAMLESS, OUTSIDE DIAM 114.3-215.9MM | 2 | 2 | 100 | 5,000 | 5,000 | 100 | 0
7304390006 | TUBES/PIPES/HLLW PRFLS IRON/NA STL, SMLESS, CIRC CS, NOT COLD-TRTD, SUITABLE FOR BOILERS ETC, OS DIAM 190.5-285.8MM | 1 | 1 | 100 | 4,000 | 4,000 | 100 | 0
7304390008 | TUBES/PIPES/HLLW PRFLS IRON/NA STL, SMLESS, CIRC CS, NOT COLD-TRTD, SUITABLE FOR BOILERS ETC, OS DIAM >285.8MM | 1 | 1 | 100 | 4,000 | 4,000 | 100 | 0
7306195110 | LINE PIPE (OIL/GAS PIPELINES) ALLOY STL, WELDED/RIVETED/SIM CLOSED, OUTSIDE DIAM | 3 | 3 | 100 | 60 | 60 | 100 | 0
7306298110 | OTHER TUBING (OIL/GAS DRILLING) OTH ALLOY STL, WELDED/RIVETED/SIMILARLY CLOSED, IMPORTED WITH COUPLING | 2 | 2 | 100 | 573 | 573 | 100 | 0
* Percent of requests granted despite receiving one or more objections, out of the total number of requests with objections and rendered decisions.

Annex 4: Aluminum HTS Codes With 100% Objection Rates

232 Process Statistics—Objection Rate by Aluminum HTSUS, as of 3/23/20
HTSUS code | HTS description | Requests | Requests with objections | Objection rate (%) | Volume requested (mt) | Volume with objections (mt) | Volume objection rate (%) | Percent granted despite objection *
7606123055 | ALUMINUM ALLOY CAN STOCK, NOT CLAD, LID STOCK | 3 | 3 | 100 | 45,000 | 45,000 | 100 | 33
* Percent of requests granted despite receiving one or more objections, out of the total number of requests with objections and rendered decisions.

[FR Doc. 2020-11173 Filed 5-22-20; 8:45 am]

BILLING CODE 3510-33-P